DEPARTMENT OF COMMERCE

National Oceanic and Atmospheric Administration

50 CFR Part 679

[Docket No. 000119015-0015-01; I.D. 021100A]

Fisheries of the Exclusive Economic Zone Off Alaska; Pollock by Vessels Not Participating in Cooperatives that are Catching Pollock for Processing by the Inshore Component in the Bering Sea Subarea of the Bering Sea and Aleutian Islands Management Area

AGENCY: National Marine Fisheries Service (NMFS), National Oceanic and Atmospheric Administration (NOAA), Commerce.

ACTION: Closure.

SUMMARY: NMFS is prohibiting directed fishing for pollock by vessels not participating in cooperatives that are catching pollock for processing by the inshore component in the Bering Sea subarea of the Bering Sea and Aleutian Islands management area (BSAI). This action is necessary because the interim A/B season allocation of pollock total allowable catch (TAC) specified for vessels not participating in cooperatives that are catching pollock for processing by the inshore component in the Bering Sea subarea of the BSAI will be reached.

DATES: Effective 1200 hrs, Alaska local time (A.l.t.), February 11, 2000, until 1200 hrs, A.l.t., June 10, 2000.

FOR FURTHER INFORMATION CONTACT: Mary Furuness, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(D)(3) and the revised interim 2000 TAC amounts for pollock in the Bering Sea subarea (65 FR 4520, January 28, 2000), the A/B season allocation of pollock TAC specified to the vessels not participating in cooperatives catching pollock for processing by the inshore component in the Bering Sea subarea is 11,968 metric tons (mt).

In accordance with § 679.20(d)(1)(i), the Administrator, Alaska Region, NMFS (Regional Administrator), has determined that the A/B season allocation of pollock TAC specified to the vessels not participating in cooperatives that are catching pollock for processing by the inshore component in the Bering Sea subarea will be reached. Therefore, the Regional Administrator is establishing the A/B season allocation of pollock TAC as the directed fishing allowance (§ 679.20(a)(5)(i)(D)(2)). In accordance with § 679.20(d)(1)(iii), the Regional Administrator finds that this directed fishing allowance soon will be reached. Consequently, NMFS is prohibiting directed fishing for pollock by vessels not participating in cooperatives that are catching pollock for processing by the inshore component in the Bering Sea subarea.

Maximum retainable bycatch amounts may be found in the regulations at § 679.20(e) and (f).

Classification

This action responds to the best available information recently obtained from the fishery. It must be implemented immediately in order to prevent exceeding the A/B season allocation of pollock TAC specified to the vessels not participating in cooperatives catching pollock for processing by the inshore component in the Bering Sea subarea. A delay in the effective date is impracticable and contrary to the public interest. Further delay would only result in overharvest. NMFS finds for good cause that the implementation of this action can not be delayed for 30 days. Accordingly, under 5 U.S.C. 553(d), a delay in the effective date is hereby waived.

This action is required by § 679.22 and is exempt from review under E.O. 12866.

Authority: 16 U.S.C. 1801 et seq.

Dated: February 11, 2000.
Bruce C. Morehead,
Acting Director, Office of Sustainable Fisheries, National Marine Fisheries Service.

[FR Doc. 00-3751 Filed 2-11-00; 4:54 pm]

BILLING CODE 3510-22-F